DEPARTMENT OF COMMERCE

Foreign-Trade Zones Board

[Docket 5-2004]

Foreign-Trade Zone 229—Charleston, West Virginia Application For Foreign-Trade Subzone Status E.I. du Pont de Nemours and Company, Inc. (Crop Protection Products); Belle, WV

An application has been submitted to the Foreign-Trade Zones Board (the Board) by the West Virginia Economic Development Authority, grantee of FTZ 229, requesting special-purpose subzone status for the manufacturing facilities (crop protection products) of E.I. du Pont de Nemours and Company, Inc. (DuPont), located in Belle, West Virginia. The application was submitted pursuant to the Foreign-Trade Zones Act, as amended (19 U.S.C. 81a-81u), and the regulations of the Board (15 CFR part 400). It was formally filed on February 25, 2004.

The DuPont facilities are located at 901 West Dupont Avenue in Belle (105.77 acres with 113 buildings and 962,000 sq. ft. of enclosed space; potential expansion to include two more buildings with an additional 78,000 sq. ft.). The facilities (approximately 500 employees) produce crop protection products which DuPont intends to manufacture, test, package, and warehouse under FTZ procedures.

The company's list of categories of imported parts and materials for possible use in its operations under FTZ procedures includes: Inorganic acids and other inorganic oxygen compounds of nonmetals; sulfides of nonmetals; ammonia; sodium hydroxide, potassium hydroxide, and peroxides of sodium or potassium; hydrazine and hydroxylamine and their inorganic salts, other inorganic bases, and other metal oxides, hydroxides, and peroxides; fluorides, fluorosilicates, fluoroaluminates, and other complex fluorine salts; chlorides, chloride oxides and chloride hydroxides, bromides and bromide oxides, and iodides and iodide oxides; chlorates and perchlorates, bromates and perbromates, and iodates and periodates; sulfides and polysulfides; sulfates, alums, and peroxosulfates; phosphinates, phosphonates, phosphates, and polyphosphates; carbonates, peroxocarbonates, and commercial ammonium carbonate containing ammonium carbamate; cyanides, cyanide oxides and complex cyanides; fulminates, cyanates and thiocyanates; other inorganic compounds, liquid air, compressed air, and amalgams; cyclic hydrocarbons; halogenated derivatives of hydrocarbons; derivatives of hydrocarbons; acyclic alcohols and derivatives; cyclic alcohols and derivatives; phenols and phenol-alcohols, and their derivatives; ethers, ether-alcohols, ether-phenols, ether-alcohol-phenols, alcohol peroxides, ether peroxides, ketone peroxides, and their derivatives; epoxides, epoxyalcohols, epoxyphenols and epoxyethers, and their derivatives; acetals and hemiacetals and their derivatives; aldehydes, cyclic polymers of aldehydes, and paraformaldehyde; derivatives of products of HTS heading 2912; ketone function compounds and quinone function compounds; saturated acyclic monocarboxylic acids and derivatives; unsaturated acyclic monocarboxylic acids and derivatives; polycarboxylic acids and derivatives; carboxylic acids and derivatives; phosphoric esters, salts, and derivatives; esters of other inorganic salts, and their salts and derivatives; amine function compounds; oxygen-function amino-compounds; quaternary ammonium salts and hydroxides, lecithins, and other phosphoaminolipids; carboxyamide-function compounds and amide-function compounds of carbonic acid; carboxyimide-function and imine-function compounds; nitrile-function compounds; diazo-, azo-, or azoxy-compounds; organic derivatives of hydrazine or of hydroxylamine; organo-sulfur compounds; other organo-inorganic compounds; heterocyclic compounds with oxygen hetero-atoms only; heterocyclic compounds with nitrogen hetero-atom(s) only; sulfonamides; glycosides and derivatives; vegetable alkaloids and derivatives; sugars other than sucrose, lactose, maltose, glucose and fructose, sugar ethers and sugar esters, and their salts; other organic compounds; essential oils and resinoids; organic surface-active agents; insecticides, rodenticides, fungicides, herbicides, etc.; reaction initiators and accelerators; prepared binders for foundry molds or cores; polymers of ethylene; cellulose and its chemical derivatives; self-adhesive plates, sheets, film, foil, tape, strip and other flat shapes, of plastics; other plates, sheets, film, foil and strip, of plastics; articles for the conveyance or packing of goods; and other articles of plastic and articles of other materials of HTS headings 3901 to 3914. Current duty rates for these input materials range up to seven percent.

Zone procedures would exempt DuPont from Customs duty payments on foreign components used in export production. On its domestic sales, DuPont would be able to defer duty payments. DuPont would be able to avoid duty on foreign inputs which become scrap/waste, estimated at less than one percent of imported inputs. The application also indicates that the company will derive savings from simplification and expediting of the company's import and export procedures and from transfer of foreign-status merchandise to other FTZs or subzones. DuPont's application indicates that the company will not derive any savings from inverted tariffs (i.e., from situations where a lower duty rate applies to a finished product than applies to its foreign input(s)). All of the above-cited savings from zone procedures could help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is May 10, 2004. Rebuttal comments in response to material submitted during the foregoing period may be submitted during the subsequent 15-day period to May 24, 2004.

A copy of the application and accompanying exhibits will be available for public inspection at the Office of the Foreign-Trade Zones Board's Executive Secretary at address Number 1 listed above, and at the U.S. Department of Commerce Export Assistance Center, 405 Capitol Street, Suite 807, Charleston, WV 25301.

Dated: February 27, 2004.
Dennis Puccinelli,
Executive Secretary.

[FR Doc. 04-5384 Filed 3-9-04; 8:45 am]

BILLING CODE 3510-DS-P